INTERNATIONAL TRADE COMMISSION

[Investigation No. 337-TA-615]

In the Matter of Certain Ground Fault Circuit Interrupters and Products Containing Same; Notice of Commission Determination To Rescind in Part and Modify Remedial Orders Against Certain Respondents

AGENCY: U.S. International Trade Commission.

ACTION: Notice.

SUMMARY: Notice is hereby given that the U.S. International Trade Commission has determined to rescind in part and modify remedial orders issued in the above-captioned investigation with respect to respondents General Protecht Group, Inc. (“GPG”) of Zhejiang, China; Wenzhou Trimone Company (“Trimone”) of Zhejiang, China; Shanghai ELE Manufacturing Corporation (“ELE”) of Shanghai, China; as well as Cheetah USA Corp. of Sandy, Utah; Nicor Inc. of Albuquerque, New Mexico; Orbit Industries, Inc. of Los Angeles, California; and Colacino Electric Supply, Inc. of Newark, New York (collectively “&”).

FOR FURTHER INFORMATION CONTACT: Megan M. Valentine, Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on September 18, 2007, based on a complaint filed by Pass & Seymour, Inc. (“P&S”) of Syracuse, New York. The complaint, as supplemented, alleged violations of section 337 of the Tariff Act of 1930 (19 U.S.C. 1337) in the importation into the United States, the sale for importation, and the sale within the United States after importation of certain ground fault circuit interrupters and products containing the same by reason of infringement of certain claims of U.S. Patent Nos. 5,594,398 (“the `398 patent”); RE38,293; 7,154,718 (“the `718 patent”); 7,164,564 (“the `564 patent”); 7,212,386; and 7,256,973. The complaint named various respondents, including GPG, Trimone, ELE, and ELE's distributors. The complaint and notice of investigation were subsequently amended as to the patents and claims asserted, and several initially named respondents were terminated from the investigation. U.S. Patent No. 7,283,340 (“the `340 patent”) was later added to the investigation.

On March 9, 2009, the Commission terminated this investigation with a finding of violation of Section 337 by reason of infringement of one or more of claims 1, 7, and 8 of the `398 patent, claims 14, 18, and 30 of the `340 patent, claim 52 of the `718 patent, and claims 1 and 15 of the `564 patent. The Commission issued remedial orders, including a limited exclusion order (“LEO”) directed, inter alia, toward GPG with respect to the `340 and `398 patents, toward Trimone with respect to the `340 patent, and toward ELE and ELE's distributors with respect to the `340, `398, and `564 patents. The Commission also issued cease and desist orders against ELE's distributors. Respondents GPG, Trimone, and ELE subsequently appealed the Commission's final determination of violation of Section 337 to the United States Court of Appeals for the Federal Circuit.

On August 27, 2010, the Court issued an opinion reversing the Commission's findings of infringement as to GPG and Trimone and thus, the Commission's determination of violation as to those respondents. See General Protecht Group, Inc. v. ITC, 619 F.3d 1303 (Fed. Cir. 2010), reh'g denied, (Fed. Cir. Dec. 14, 2010), mandate issued (Fed. Cir. Dec. 21, 2010). The Court also reversed the Commission's findings of infringement under the `340 patent as to ELE, thus reversing in part the Commission's determination of violation as to ELE.

On January 6, 2011, respondents GPG and Trimone (but not ELE) petitioned the Commission pursuant to Commission Rule 210.76(a)(1) (19 CFR 210.76(a)(1)) to rescind in part the LEO as to them. No responses to the petition were filed.

Having reviewed the parties' submission and considering the mandate of the Federal Circuit, the Commission has determined that the petition satisfies the requirement of Commission Rule 210.76 (a)(1) (19 CFR 210.76(a)(1)) that there be changed conditions of fact or law and that the remedial orders should be rescinded in part and modified. The Commission therefore has issued an order rescinding in part the LEO previously issued in this investigation with respect to respondents GPG and Trimone, modifying the LEO with respect to ELE and ELE's distributors, and modifying the cease and desist orders directed to ELE's distributors.

The authority for the Commission's determination is contained in Section 337(k) of the Tariff Act of 1930, as amended (19 U.S.C. 1337(k)), and in section 210.76(b) of the Commission's Rules of Practice and Procedure (19 CFR 210.76(b)).

By order of the Commission.
Issued: March 24, 2011.
James R. Holbein,
Acting Secretary to the Commission.

[FR Doc. 2011-7412 Filed 3-29-11; 8:45 am]

BILLING CODE 7020-02-P